DEPARTMENT OF COMMERCE

International Trade Administration

[A-583-008]

Circular Welded Carbon Steel Pipes and Tubes From Taiwan: Final Results of Antidumping Duty Administrative Review

AGENCY: Import Administration, International Trade Administration, Department of Commerce.

SUMMARY: On July 1, 2003, the Department of Commerce (the Department) published in the Federal Register (68 FR 39055) a notice announcing the initiation of the administrative review of the antidumping duty order on circular welded carbon steel pipes and tubes from Taiwan. The period of review (POR) is May 1, 2002 to April 30, 2003. On June 8, 2004, the Department published the preliminary results of its administrative review of the antidumping duty order on circular welded carbon steel pipes and tubes from Taiwan (see Circular Welded Carbon Steel Pipes and Tubes from Taiwan: Preliminary Results of Antidumping Duty Administrative Review, 69 FR 31958 (June 8, 2004) (Preliminary Results). In the preliminary results, we found that U.S. sales were made below normal value (NV) by the respondent, Yieh Hsing Enterprise Co., Ltd. (Yieh Hsing). We gave interested parties an opportunity to comment on our preliminary results; comments from petitioners and respondents are addressed in the “Issues and Decision Memorandum,” which is adopted by this notice. The Department has made no changes from the preliminary results.

EFFECTIVE DATE: September 30, 2004.

FOR FURTHER INFORMATION CONTACT: Angela Strom or Robert James, Office 7, Import Administration, International Trade Administration, U.S. Department of Commerce, 14th Street and Constitution Avenue, NW., Room 3067, Washington, DC 20230; telephone (202) 482-2704 or (202) 482-0649.

SUPPLEMENTARY INFORMATION:

Background

On May 1, 2003, the Department published in the Federal Register a notice of “Opportunity to Request Administrative Review” of the antidumping duty order on circular welded carbon steel pipes and tubes from Taiwan. See Antidumping or Countervailing Duty Order, Finding or Suspended Investigation, Opportunity to Request Administrative Review, 68 FR 23281. On July 1, 2003, in response to a request from petitioners, Allied Tube and Conduit Corporation, IPSCO Tubulars Inc. and Wheatland Tube Company, the Department published in the Federal Register our notice of initiation of this administrative review. See Initiation of Antidumping and Countervailing Duty Administrative Reviews and Request for Revocation in Part, 68 FR 39055. Petitioners requested that the Department conduct an administrative review of entries of subject merchandise made by Yieh Hsing, covering the period of review from May 1, 2002 to April 30, 2003.

Because it was not practicable to complete this review within the normal time frame, the Department extended the time limit for the preliminary results of the administrative review to May 30, 2004. See Circular Welded Carbon Steel Pipes and Tubes from Taiwan: Notice of Extension of Time Limits, 68 FR at 69987 (December 16, 2003). Due to the unexpected emergency closure of the main Commerce building on Tuesday, June 1, 2004, the Department has tolled the deadline for these preliminary results by one day to June 2, 2004 and issued them on that day.

On June 8, 2004, the Department published the preliminary results of the antidumping duty order on circular welded carbon steel pipes and tubes from Taiwan. See Preliminary Results. Since publication of the preliminary results, we invited parties to comment on our findings. The Department received a case brief from the petitioners on July 8, 2004 and a rebuttal brief from the respondent on July 13, 2004.

Scope of the Review

Imports covered by this review are shipments of certain circular welded carbon steel pipes and tubes. The Department defines such merchandise as welded carbon steel pipes and tubes of circular cross section, with walls not thinner than 0.065 inch and 0.375 inch or more but not over 4.5 inches in outside diameter. These products are commonly referred to in the industry as “standard pipe” and are produced to various American Society for Testing Materials specifications, most notably A-53, A-120 and A-135. Standard pipe is currently classified under Harmonized Tariff Schedule of the United States (HTSUS) item numbers 7306.30.5025, 7306.30.5032, 7306.30.5040, and 7306.30.5055. Although the HTSUS subheadings are provided for convenience and customs purposes, the written description of the merchandise under review is dispositive.

Analysis of Comments Received

The Department received one comment in a case brief from petitioners and a rebuttal brief from the respondent, all of which are addressed in the “Issues and Decision Memorandum for the Antidumping Duty Order for Circular Welded Carbon Steel Pipes and Tubes from Taiwan: Notice of Final Results of Antidumping Duty Administrative Review (A-583-008)” from Jeffrey May, Deputy Assistant Secretary, Import Administration, to James J. Jochum, Assistant Secretary, Import Administration, dated September 24, 2004 (Issues and Decision Memorandum), which is hereby adopted by this notice. This memorandum is on file in the Department's Central Records Unit, located at 14th Street and Constitution Avenue, NW., Room B-099. In addition, a complete version of the Issues and Decision Memorandum can be accessed directly on the Import Administration Web site at http://ia.ita.doc.gov/frn/index.html. The paper copy and electronic version of the Issues and Decision Memorandum are identical in content.

Changes Since the Preliminary Results

Based on our analysis of comments received and findings at verification, we have made no changes in the margin calculation from the preliminary results.

Final Results of Review

We determine the following dumping margin exists for the period May 1, 2002 to April 30, 2003.

Producer and exporter | Weighted average margin (percentage)
Yieh Hsing Assessment | 1.61

The Department shall determine, and U.S. Customs and Border Protection (Customs) shall assess, antidumping duties on all appropriate entries. In accordance with 19 CFR 351.212(b)(1), we have calculated per-unit importer-specific assessment rates. The Department will issue appropriate assessment instructions directly to Customs within 15 days of publication of these final results of review.

Cash Deposit Requirements

The following cash deposit requirements will be effective upon publication of the final results of this administrative review for all shipments of the subject merchandise entered, or withdrawn from warehouse, for consumption on or after the publication date, as provided for by section 751(a)(1) of the Tariff Act: (1) For Yieh Hsing, the cash deposit rate will be 1.61 percent; (2) for previously-reviewed producers and exporters with separate rates, the cash deposit rates will be the company-specific rates established for the most recent period for which they were reviewed; and (3) for all other producers and exporters, the rate will be 9.70 percent, the “all others” rate established in the less than fair value investigation. See Certain Welded Carbon Steel Pipes and Tubes from Taiwan: Final Determination of Sales at Less Than Fair Value, 49 FR 9931-01 (March 16, 1984). These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections 751(a)(1) and 777(i)(1) of the Act.

Dated: September 24, 2004.
James J. Jochum,
Assistant Secretary, Import Administration.

Appendix:

Issues and Decision Memorandum

Comment 1: Credit Expenses for Home Market Sales.

[FR Doc. E4-2443 Filed 9-29-04; 8:45 am]

BILLING CODE 3510-DS-P